DEPARTMENT OF ENERGY

Federal Energy Regulatory Commission

[Docket No. CP05-92-000]

Liberty Gas Storage, L.L.C.; Notice of Extension of Scoping Period Closing Date

June 1, 2005.

On May 18, 2005, the Commission issued a “Notice of Intent To Prepare an Environmental Assessment for the Proposed Liberty Gas Storage Project and Request for Comments on Environmental Issues” in the above-captioned proceeding. The subsequent mailing of this notice was incomplete and did not reach all of the intended parties.

The notice has been mailed again to all affected parties. The scoping period closing date is hereby extended to June 29, 2005.

Magalie R. Salas,
Secretary.

[FR Doc. E5-3008 Filed 6-9-05; 8:45 am]

BILLING CODE 6717-01-P